DEPARTMENT OF THE INTERIOR

Bureau of Land Management

[LLWY-957000-17-L13100000-PP0000]

Filing of Plats of Survey, Wyoming

AGENCY: Bureau of Land Management, Interior.

ACTION: Notice.

SUMMARY: The Bureau of Land Management (BLM) is scheduled to file plats of survey 30 calendar days from the date of this publication in the BLM Wyoming State Office, Cheyenne, Wyoming. The surveys, which were executed at the request of the U.S. Forest Service and the BLM, are necessary for the management of these lands. The lands surveyed are:

The plat and field notes representing the dependent resurvey of a portion of the north boundary and portions of the subdivisional lines, and the survey of the subdivision of section 3, Township 27 North, Range 71 West, Sixth Principal Meridian, Wyoming, Group No. 943, were accepted on December 13, 2016.

The plat and field notes representing the dependent resurvey of a portion of the 1963-65 adjusted original meanders of the left bank of the Snake River, Township 41 North, Range 117 West, Sixth Principal Meridian, Wyoming, Group No. 946, were accepted on January 13, 2017.

DATES: Protests must be received by the BLM by April 17, 2017.

ADDRESSES: You may submit written protests to the Wyoming State Director at WY957, Bureau of Land Management, 5353 Yellowstone Road, P.O. Box 1828, Cheyenne, Wyoming 82003.

FOR FURTHER INFORMATION CONTACT: Wyoming Cadastral Survey at 307-775-6222. Persons who use a telecommunications device for the deaf may call the Federal Relay Service (FRS) at 1-800-877-8339 to contact this office during normal business hours. The FRS is available 24 hours a day, 7 days a week, to leave a message or question with this office. You will receive a reply during normal business hours.

SUPPLEMENTARY INFORMATION: A person or party who wishes to protest either of the above surveys must file a written notice within 30 calendar days from the date of this publication with the Wyoming State Director, Bureau of Land Management, at the above address, stating that they wish to protest. A statement of reasons for the protest may be filed with the notice of protest and must be filed with the Wyoming State Director within 30 calendar days after the protest is filed. If a protest against the survey is received prior to the date of official filing, the filing will be stayed pending consideration of the protest. A plat will not be officially filed until the day after all protests have been dismissed or otherwise resolved.

Before including your address, phone number, email address, or other personal identifying information in your protest, you should be aware that your entire protest—including your personal identifying information—may be made publicly available at any time. While you can ask us to withhold your personal identifying information from public review, we cannot guarantee that we will be able to do so.

Copies of the preceding described plats and field notes are available to the public at a cost of $4.20 per plat and $.13 per page of field notes.

John P. Lee,
Chief Cadastral Surveyor, Division of Support Services.

[FR Doc. 2017-05199 Filed 3-15-17; 8:45 am]

BILLING CODE 4310-22-P